DEPARTMENT OF COMMERCE

International Trade Administration

[A-570-894]

Certain Tissue Paper Products From the People's Republic of China: Final Results of Antidumping Duty Administrative Review; 2016-2017

AGENCY: Enforcement and Compliance, International Trade Administration, Department of Commerce.

SUMMARY: The Department of Commerce (Commerce) has completed its administrative review of the antidumping duty order on certain tissue paper products (tissue paper) from the People's Republic of China (China) for the period of review (POR) March 1, 2016, through February 28, 2017. We continue to find that Global Key, Inc. (Global Key) is not eligible for a separate rate and that Chung Rhy Special Paper Mill Co., Ltd. (Chung Rhy) had no shipments during the POR.

DATES: Applicable March 19, 2018.

FOR FURTHER INFORMATION CONTACT: Sergio Balbontin, AD/CVD Operations, Office VIII, Enforcement and Compliance, International Trade Administration, U.S. Department of Commerce, 1401 Constitution Avenue NW, Washington, DC 20230; telephone: 202-482-6478.

SUPPLEMENTARY INFORMATION:

Background

On November 21, 2017, Commerce published the Preliminary Results in the Federal Register.¹ We invited interested parties to comment on the Preliminary Results; however, no interested parties submitted comments. Accordingly, we made no changes to the Preliminary Results.

¹ See Certain Tissue Paper Products from the People's Republic of China: Preliminary Results of Antidumping Duty Administrative Review and Preliminary Determination of No Shipments; 2016-2017, 82 FR 55348 (November 21, 2017) (Preliminary Results), and accompanying Memorandum from James Maeder, Senior Director performing the duties of the Associate Deputy Assistant Secretary for Antidumping and Countervailing Duty Operations, to Gary Taverman, Deputy Assistant Secretary for Antidumping and Countervailing Duty Operations, performing the non-exclusive functions and duties of the Assistant Secretary for Enforcement and Compliance, “Decision Memorandum for Preliminary Results of Antidumping Duty Administrative Review: Certain Tissue Paper Products from the People's Republic of China; 2016-2017” (Preliminary Decision Memorandum).

Scope of the Order

The tissue paper products subject to this order are cut-to-length sheets of tissue paper having a basis weight not exceeding 29 grams per square meter. Tissue paper products subject to this order may or may not be bleached, dye-colored, surface-colored, glazed, surface decorated or printed, sequined, crinkled, embossed, and/or die cut. The tissue paper subject to this order is in the form of cut-to-length sheets of tissue paper with a width equal to or greater than one-half (0.5) inch. Subject tissue paper may be flat or folded, and may be packaged by banding or wrapping with paper or film, by placing in plastic or film bags, and/or by placing in boxes for distribution and use by the ultimate consumer. Packages of tissue paper subject to this order may consist solely of tissue paper of one color and/or style, or may contain multiple colors and/or styles.

The merchandise subject to this order does not have specific classification numbers assigned to them under the Harmonized Tariff Schedule of the United States (HTSUS). Subject merchandise may be under one or more of several different subheadings, including: 4802.30, 4802.54, 4802.61, 4802.62, 4802.69, 4804.31.1000, 4804.31.2000, 4804.31.4020, 4804.31.4040, 4804.31.6000, 4804.39, 4805.91.1090, 4805.91.5000, 4805.91.7000, 4806.40, 4808.30, 4808.90, 4811.90, 4823.90, 4802.50.00, 4802.90.00, 4805.91.90, 9505.90.40. The tariff classifications are provided for convenience and customs purposes; however, the written description of the scope of this order is dispositive.²

² On January 30, 2007, at the direction of U.S. Customs and Border Protection (CBP), Commerce added the following HTSUS classifications to the AD/CVD module for tissue paper: 4802.54.3100, 4802.54.6100, and 4823.90.6700. However, we note that the six-digit classifications for these numbers were already listed in the scope.

Excluded from the scope of this order are the following tissue paper products: (1) Tissue paper products that are coated in wax, paraffin, or polymers, of a kind used in floral and food service applications; (2) tissue paper products that have been perforated, embossed, or die-cut to the shape of a toilet seat, i.e., disposable sanitary covers for toilet seats; (3) toilet or facial tissue stock, towel or napkin stock, paper of a kind used for household or sanitary purposes, cellulose wadding, and webs of cellulose fibers (HTS 4803.00.20.00 and 4803.00.40.00).

Final Determination of No Shipments

In the Preliminary Results, Commerce determined that Chung Rhy did not have any shipments of subject merchandise during the POR. As we have not received any information to contradict our preliminary finding, we determine that Chung Rhy did not have any shipments of subject merchandise during the POR and we intend to issue appropriate instructions that are consistent with our “automatic assessment” clarification, for these final results.³

³ See Non-Market Economy Antidumping Proceedings: Assessment of Antidumping Duties, 76 FR 65694 (October 24, 2011) (Assessment Notice); see also “Assessment Rates” section below.

Methodology

Commerce has conducted this review in accordance with section 751(a)(1)(A) of the Tariff Act of 1930, as amended (the Act). In the Preliminary Results, Commerce determined that Global Key was ineligible for a separate rate and is part of the China-wide entity, subject to the China-wide entity rate of 112.64 percent.⁴ As we have not received any information since the issuance of the Preliminary Results that provides a basis for reconsidering this determination, we continue to find that Global Key is ineligible for a separate rate.

⁴ See Preliminary Results, 82 FR at 55349, and Preliminary Decision Memorandum at 4.

Assessment Rates

Pursuant to section 751(a)(2)(C) of the Act and 19 CFR 351.212(b), Commerce has determined, and CBP shall assess, antidumping duties on all appropriate entries of subject merchandise in accordance with these final results of administrative review. Commerce intends to issue assessment instructions to CBP 15 days after the date of publication of these final results of review. With regard to Global Key, we will instruct CBP to apply an ad valorem assessment rate of 112.64 percent to all entries of subject merchandise during the POR which were produced and/or exported by Global Key.

Additionally, consistent with our assessment practice in non-market economy cases, for Chung Rhy, an exporter under review which we determined had no shipments of the subject merchandise, any suspended entries made under that exporter's case number (i.e., at that exporter's rate) will be liquidated at the China-wide rate.⁵

⁵ For a full discussion of this practice, see Assessment Notice.

Cash Deposit Requirements

The following cash deposit requirements will be effective upon publication of these final results of administrative review for shipments of the subject merchandise from China entered, or withdrawn from warehouse, for consumption on or after the publication date, as provided by sections 751(a)(2)(C) of the Act: (1) For previously investigated or reviewed Chinese and non-Chinese exporters that received a separate rate in a prior segment of this proceeding, the cash deposit rate will continue to be the existing exporter-specific rate; (2) for all Chinese exporters of subject merchandise that have not been found to be entitled to a separate rate, including Global Key, the cash deposit rate will be that for the China-wide entity, which is 112.64 percent; and (3) for all non-Chinese exporters of subject merchandise which have not received their own rate, the cash deposit rate will be the rate applicable to the Chinese exporter that supplied that non-Chinese exporter. These deposit requirements, when imposed, shall remain in effect until further notice.

Notification to Importers

This notice also serves as a reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

This notice of the final results of this antidumping duty administrative review is issued and published in accordance with sections 751(a)(1) and 777(i)(1) of the Act and 19 CFR 351.221(b)(5).

Dated: March 13, 2018.
Gary Taverman,
Deputy Assistant Secretary for Antidumping and Countervailing Duty Operations, performing the non-exclusive functions and duties of the Assistant Secretary for Enforcement and Compliance.

[FR Doc. 2018-05485 Filed 3-16-18; 8:45 am]

BILLING CODE 3510-DS-P